SMALL BUSINESS ADMINISTRATION

[Declaration of Disaster #3364]

State of New York

As a result of the President's major disaster declaration on September 11, 2001, I find that Bronx, Kings (Borough of Brooklyn), New York (Borough of Manhattan), Queens and Richmond (Borough of Staten Island) Counties in the State of New York constitute a disaster area due to damages caused by explosions and fires at the World Trade Center which occurred on September 11, 2001. Applications for loans for physical damage as a result of this disaster may be filed until the close of business on November 10, 2001 and for economic injury until the close of business on June 11, 2002 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Nassau and Westchester in the State of New York; Bergen, Hudson, Middlesex and Union counties in the State of New Jersey.

The interest rates are:

| Percent
For Physical Damage:
HOMEOWNERS WITH CREDIT AVAILABLE ELSEWHERE | 6.750
HOMEOWNERS WITHOUT CREDIT AVAILABLE ELSEWHERE | 3.375
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 7.125
For Economic Injury:
BUSINESSES AND SMALL AGRICULTURAL COOPERATIVES WITHOUT CREDIT AVAILABLE ELSEWHERE | 4.000

The number assigned to this disaster for physical damage is 336404. For economic injury the number is 9M4900 for New York; and 9M5000 for New Jersey.

(Catalog of Federal Domestic Assistance Program Nos. 59002 and 59008)
Dated: September 13, 2001.
Herbert L. Mitchell,
Associate Administrator For Disaster Assistance.

[FR Doc. 01-23298 Filed 9-17-01; 8:45 am]

BILLING CODE 8025-01-P